DEPARTMENT OF HEALTH AND HUMAN SERVICES

Administration for Children and Families

Submission for OMB Review: Comment Request

Title: Evaluation of Tribal Health Profession Opportunity Grants (HPOG)—One Year Extension of Data Collection

OMB No.: 0970-0395

Description: The Administration for Children and Families (ACF), U.S. Department of Health and Human Services (HHS), is proposing to continue information collection activities as part of the Evaluation of the Tribal Health Profession Opportunity Grants (HPOG). These information collection activities were approved by OMB in October 2011 for a three-year period (OMB clearance number 0970-0395). ACF is requesting a one-year extension of these activities. Through the extension of the information collection, ACF seeks to continue a comprehensive process and outcome evaluation to provide documentation and lessons learned about diverse programmatic approaches to health professions trainings for Tribal populations.

The goals of the Tribal HPOG evaluation are to: (1) Provide an in-depth, systematic analysis of program structure, implementation, and outcomes of the sites served by the five Tribal HPOG grantees funded in FY 2010, and (2) compare these data within and across grantees to generate hypotheses about the effectiveness of different program approaches for Tribal populations. These goals require collecting information from Tribal HPOG grantees and other program stakeholders on an annual basis. The information collection activities include in-person and telephone interviews and focus groups. A one-year extension of these activities will allow the evaluation to gather data from the grantees through the end of their grant period. Program operations data related to this effort will continue to be collected through a web-based performance management system under a separate information collection (OMB clearance number 0970-0394).

This Federal Register Notice provides the opportunity to provide comments to OMB on a proposed information collection activity for the evaluation of Tribal HPOG. All instruments included in this request have been previously approved. The burden represents continuing data collection into this period.

Respondents: Grantee and Partner Administrative Staff interview: Administrators of the Tribal HPOG program, workforce development, and TANF agencies; public and private university-based partners; and not-for profit organizations.

Program Implementation Staff interview: Instructors, trainers, and providers of program or supportive services.

Program Participant focus groups: Current program participants.

Employers interview: Local or regional employers at public or private companies or organizations that are partnering with the Tribal HPOG program or have employed program participants.

Program Completers interview: Program completers.

Program Non-completers interview: Individuals who did not complete the programs.

Annual Burden Estimates

The current information collection request is for a one-year period.

Instrument | Annual number of respondents | Number of responses per respondent | Average burden hours per response | Annual burden hours
New Burden for Previously Approved Instruments
Grantee and partner administrative staff interview | 35 | 1 | 1 | 35
Program implementation staff interview | 117 | 1 | 1.5 | 176
Employer interview | 52 | 1 | .75 | 39
Program participant focus group or interview | 117 | 1 | 1.35 | 158
Program completers interview | 75 | 1 | 1 | 75
Program non-completers interview | 20 | 1 | .50 | 10

Estimated Total Annual Burden Hours: 493.

Additional Information: Copies of the proposed collection may be obtained by writing to the Administration for Children and Families, Office of Planning, Research and Evaluation, 370 L'Enfant Promenade, SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Karl Koerper,
OPRE Reports Clearance Officer.

[FR Doc. 2014-19829 Filed 8-20-14; 8:45 am]

BILLING CODE 4184-08-P